DEPARTMENT OF ENERGY

Federal Energy Regulatory Commission

Notice of Revocation of Market-Based Rate Tariff

October 7, 2010.

Electric Quarterly Reports | Docket No. ER02-2001-016
BM2 LLC | Docket No. ER06-885-000
DJGW, LLC | Docket No. ER04-289-000

On September 22, 2010, the Commission issued an order announcing its intent to revoke the market-based rate authority of the above captioned public utilities, which had failed to file their required Electric Quarterly Reports.¹ The Commission provided the utilities fifteen days in which to file their overdue Electric Quarterly Reports or face revocation of their market-based rate tariffs.

¹ Electric Quarterly Reports, 132 FERC ¶ 61,251 (2010) (September 22 Order).

In Order No. 2001, the Commission revised its public utility filing requirements and established a requirement for public utilities, including power marketers, to file Electric Quarterly Reports summarizing the contractual terms and conditions in their agreements for all jurisdictional services (including market-based power sales, cost-based power sales, and transmission service) and providing transaction information (including rates) for short-term and long-term power sales during the most recent calendar quarter.²

² Revised Public Utility Filing Requirements, Order No. 2001, 67 FR 31,043, FERC Stats. & Regs. ¶ 31,127, reh'g denied, Order No. 2001-A, 100 FERC ¶ 61,074, reconsideration and clarification denied, Order No. 2001-B, 100 FERC ¶ 61,342, order directing filings, Order No. 2001-C, 101 FERC ¶ 61,314 (2002), order directing filing, Order No. 2001-D, 102 FERC ¶ 61,334 (2003).

In the September 22 Order, the Commission directed BM2 LLC and DJGW, LLC to file the required Electric Quarterly Reports within 15 days of the date of issuance of the order or face revocation of their authority to sell power at market-based rates and termination of their electric market-based rate tariffs.³

³ September 22 Order at Ordering Paragraph A.

The time period for compliance with the September 22 Order has elapsed. The two companies identified in the September 22 Order (BM2 LLC and DJGW, LLC) have failed to file their delinquent Electric Quarterly Reports.

The Commission hereby revokes the market-based rate authority and terminates the electric market-based rate tariffs of the above-captioned public utilities.

Kimberly D. Bose,
Secretary.

[FR Doc. 2010-25955 Filed 10-14-10; 8:45 am]

BILLING CODE 6717-01-P